NUCLEAR REGULATORY COMMISSION

Draft Regulatory Guides: Granting Extension of Comment Periods

AGENCY: Nuclear Regulatory Commission.

ACTION: Notice of Granting of Request to Extend the Comment Period of Draft Regulatory Guides, DG-1186 and DG-4013.

FOR FURTHER INFORMATION CONTACT: Steve Garry, U.S. Nuclear Regulatory Commission, Washington, DC 20555-0001, telephone: (301) 415-2766 or e-mail to Steve.Garry@nrc.gov.

SUPPLEMENTARY INFORMATION:

I. Introduction

The U.S. Nuclear Regulatory Commission (NRC) issued for public comment DG-1186, “Measuring, Evaluating, and Reporting Radioactive Materials in Liquid and Gaseous Effluents and Solid Wastes,” which was published in the Federal Register, 73 FR 65705, on November 4, 2008. DG-1186 is proposed Revision 2 of Regulatory Guide 1.21.

NRC also issued for public comment DG-4013, “Environmental Monitoring for Nuclear Power Plants,” which was published in the Federal Register, 73 FR 66685, on November 10, 2008. DG-4013 is proposed Revision 2 of Regulatory Guide 4.1.

The DGs are in the agency's “Regulatory Guide” series. This series has been developed to describe and make available to the public such information as methods that are acceptable to the NRC staff for implementing specific parts of the NRC's regulations, techniques that the staff uses in evaluating specific problems or postulated accidents, and data that the staff needs in its review of applications for permits and licenses.

II. Further Information

The NRC staff requested receipt of comments on DG-1186 by December 30, 2008, and the receipt of comments on DG-4013 by January 9, 2009. By this action, the NRC staff is extending the comment period until January 30, 2009, for DG-1186 and DG-4013. Comments received after January 30, 2009 for DG-1186 and DG-4013, would be considered if practical to do so, but the NRC is able to ensure consideration only for comments received on or before January 30, 2009. Although a time limit is given, comments and suggestions in connection with items for inclusion in guides currently being developed or improvements in all published guides are encouraged at any time.

III. Request To Extend the Comment Period

Basis for the Request

The NRC received the following extension request:

In a letter, the Nuclear Energy Institute requested that the public review and comment period on DG-1186 and DG-4013 be extended to January 30, 2009. This will allow the public an opportunity to formulate comments because there is an NRC public meeting on the two draft guides scheduled for January 15, 2009.

Response to Request

The request for an extension to the comment period is approved until January 30, 2009.

Requests for technical information about DG-1186 and DG-4013 may be directed to the NRC contact, Steve Garry at (301) 415-2766 or e-mail to Steve.Garry@nrc.gov.

Electronic copies of DG-1186 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML080660617.

Electronic copies of DG-4013 are also available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML080660608.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 17th day of December, 2008.
For the Nuclear Regulatory Commission.
Andrea D. Valentin,
Chief, Regulatory Guide Development Branch, Division of Engineering, Office of Nuclear Regulatory Research.

[FR Doc. E8-30476 Filed 12-22-08; 8:45 am]

BILLING CODE 7590-01-P